DEPARTMENT OF TRANSPORTATION

Federal Highway Administration

Notice of Final Federal Agency Actions on Proposed Shared-Use Path in New York State

AGENCY: Federal Highway Administration (FHWA), DOT.

ACTION: Notice of Limitation on Claims for Judicial Review of Actions by FHWA.

SUMMARY: This notice announces actions taken by the FHWA, USACE, and other Federal agencies that are final within the meaning of 23 U.S.C. 139(l)(1). The actions relate to a proposed Shared-Use Path Construction Project: PIN 4760.35 Auburn Trail Extension, Town of Victor, Ontario County, New York State. Those actions grant licenses, permits, and approvals for the project.

DATES: By this notice, the FHWA is advising the public of final agency actions subject to 23 U.S.C. 139(l)(1). A claim seeking judicial review of the Federal agency actions on the highway project will be barred unless the claim is filed on or before 180 days after publication of this notice in the Federal Register.

FOR FURTHER INFORMATION CONTACT: For FHWA: Mr. Jeffrey W. Kolb, Division Administrator, Federal Highway Administration, Leo W. O'Brien Building, Suite 719, Clinton Avenue and North Pearl Street, Albany, New York 12207; telephone: (518) 431-4121; e-mail: NewYork.fhwa@dot.gov. The FHWA New York Division Office's normal business hours are 7:45 a.m. to 4:15 p.m. (eastern time). For New York State Department of Transportation, Mr. Robert Traver, Acting Regional Director, 1530 Jefferson Road, Rochester New York, 14623; telephone: (585) 272-3310. For the Town of Victor, Jack Marren, Supervisor, Town of Victor Town Hall, 85 East Main Street, New York 14564; telephone: (585) 924-3311.

SUPPLEMENTARY INFORMATION: Notice is hereby given that the FHWA has taken final agency actions subject to 23 U.S.C. 139(l)(1) by issuing a Finding of No Significant Impact (FONSI) for the following trail project in the State of New York: PIN 4760.35 Auburn Trail Extension, Town of Victor, Ontario County. The project is a portion of the Auburn Trail located in the northwest quadrant of the Town of Victor, Ontario County with a small portion in the Towns of Perinton and Pittsford, Monroe County. The project begins at Main Street in the Hamlet of Fischers and extends northerly to Woolston Road in Monroe County for a total length including the connection to Powder Mills Park of 2.5 miles. The project primarily provides for the construction of an 8-foot wide Two-Way Shared-Use Path with 2-foot wide graded grass shoulders on either side and is further described under Alternative #5 in the June 2010 Final Design Report/Environmental Assessment. The proposed Shared-Use Path will be built on an old railroad embankment currently under permanent easement by the Town of Victor. The actions by the Federal Highway Administration, and the laws under which such action was taken, are described in the Final Design Report/Environmental Assessment for the project, approved on July 26, 2010 and in the FHWA Finding of No Significant Impact (FONSI) issued on September 22, 2010 and published in the Federal Register. The FONSI, and other project records are available by contacting the FHWA, the New York State Department of Transportation or the Town of Victor at the addresses provided above. The FHWA FONSI can be viewed and downloaded from the project Web site at http://www.victorny.org or viewed at public libraries in the project area.

This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536]; Marine Mammal Protection Act [16 U.S.C. 1361]; Fish and Wildlife Coordination Act [16 U.S.C. 661-667(d)]; Migratory Bird Treaty Act [16 U.S.C. 703-712].

5. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act (Section 404, Section 401, Section 319) [33 U.S.C. 1251-1377]; Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act, [16 U.S.C. 3921, 3931]; Wetlands Mitigation [23 U.S.C. 103(b)(6)(M) and 133(b)(11)]; Flood Disaster Protection Act, 42 U.S.C. 4001-4128.

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. § 139(l)(1)

Issued on: September 22, 2010.
Jeffery W. Kolb,
New York Division Administrator, Albany.

[FR Doc. 2010-24249 Filed 9-28-10; 8:45 am]

BILLING CODE 4910-RY-P